DEPARTMENT OF TRANSPORTATION

Federal Aviation Administration

Notice of Availability of a Final Environmental Impact Statement, Tier 1 for Federal Aviation Administration Site Approval and Land Acquisition by the State of Illinois for a Proposed South Suburban Airport

AGENCY: Federal Aviation Administration (FAA), DOT.

ACTION: Noticeof availability.

SUMMARY: The Federal Aviation Administration (FAA) is issuing this notice to advise the public that a Tier 1 Final Environmental Impact Statement (FEIS)—FAA Site Approval and Land Acquisition by the State of Illinois for a Proposed South Suburban Airport, has been prepared and is available for public viewing during normal business hours at the following locations listed below. No decision on the proposed action will be made or recorded until at least 30 days after notice of availability has been published in the Federal Register by the United States Environmental Protection Agency.

1. Chicago Airports District Office, Room 312, Federal Aviation Administration, 2300 East Devon Avenue, Des Plaines, Illinois 60018.

Governors State University Library, Governors State University, University Park, Illinois 60466

2. Joliet Public Library, 150 North Ottawa Street, Joliet, Illinois 60432.

3. Northwestern University Library, 1935 Sheridan Road, Evanston, Illinois 60202

4. Harold Washington Public Library, 400 South State Street, Chicago, Illinois 60605

5. Kankakee Public Library, 304 South Indiana, Kankakee, Illinois 60901

6. Matteson Public Library, 801 South School Avenue, Matteson, Illinois 60443

7. Crete Public Library, 1177 North Main Street, Crete, Illinois 60417

8. Indiana University Northwest Library, 3400 Broadway, Gary, Indiana 46408

9.Purdue University, Calumet Campus Library, 2200 169th Street, Hammond, Indiana 46323

10. Village of Manteno, Village Hall, 269 North Main Street, Manteno, Illinois 60950

11. Village of Monee, Village Hall, 5130 West Court Street, Monee, Illinois 60449

12. Village of Beecher, Village Hall, 724 Penfield, Beecher, Illinois 60401

13. Village of Peotone, Village Hall, 208 East Main Street, Peotone, Illinois 60468

14. College of DuPage, Learning Resources Center (Library), 425 Second Street, Glen Ellyn, Illinois 60137

15. Illinois Department of Transportation, 310 South Michigan Avenue, Chicago, Illinois 60604

16. Illinois Department of Transportation, Illinois Division of Aeronautics, One Langhorne Bond Drive/Capital Airport, Springfield, Illinois 62707

17. Illinois Department of Transportation, South Suburban Airport Program Office, 4749 Lincoln Mall Drive, Suite 501, Matteson, Illinois 60443

FOR FURTHER INFORMATION, CONTACT: Denis R. Rewerts, Capacity Officer, Federal Aviation Administration, Chicago Airports District Office, Room 312, 2300 East Devon Avenue, Des Plaines, Illinois 60018. Mr. Rewerts can be contacted at (847)294-7195 (voice), (847) 294-7046 (facsimile) or by e-mail at 7-AGL-SSA-EIS-PROJECT@faa.gov.

Issued in Des Plaines, Illinois on May 7, 2002.
Philip M. Smithmeyer,
Manager, Chicago Airports District Office, FAA, Great Lakes Region.

[FR Doc. 02-12613 Filed 5-17-02; 8:45 am]

BILLING CODE 4910-13-M